DEPARTMENT OF THE INTERIOR

National Park Service

Draft Schoodic General Management Plan Amendment and Environmental Impact Statement, Acadia National Park, Maine

AGENCY: National Park Service, Interior.

ACTION: Notice of availability.

SUMMARY: Pursuant to section 102(2)(C) of the National Environmental Policy Act of 1969 (Pub. L. 91-190, as amended), the National Park Service announces the availability of the Draft Schoodic General Management Plan Amendment and Environmental Impact Statement (Draft GMPA/EIS) for Acadia National Park, in the Town of Winter Harbor, Hancock County, Maine. Consistent with National Park Service laws, regulations, and policies, and the mission of Acadia National Park, the Draft GMPA/EIS describes and analyzes two action alternatives to guide the management of the Schoodic District over the next 15 to 20 years. The action alternatives incorporate various management prescriptions to ensure protection and enjoyment of the park's resources. A no action alternative also is evaluated. The Draft GMPA/EIS evaluates potential environmental consequences of implementing the alternatives. Impact topics include cultural and natural resources, visitor experience, park operations, and the socioeconomic environment. Alternative C is the National Park Service's preferred alternative. This notice also announces that a public meeting will be held to solicit comments on the Draft GMPA/EIS during the public review period identified below.

DATES: The Draft GMPA/EIS will be available for public review for 60 days from September 17, 2004 through November 16, 2004. The National Park Service will hold a public meeting to solicit comments during the public review period. The public meeting will be held on Wednesday, October 20, 2004, at the Sumner Memorial High School cafeteria on U.S. Route 1 in Sullivan, Maine, from 7 to 9 p.m. Comments on the Draft GMPA/EIS must be received at one of the addresses below no later than November 16, 2004.

ADDRESSES: Comments on the Draft GMPA/EIS should be mailed to: Superintendent, Acadia National Park, P.O. Box 177, Bar Harbor, Maine 04609, or sent by e-mail to: john_t_kelly@nps.gov. Comments may also be submitted on the Internet at: planning.nps.gov/plans.cfm.

FOR FURTHER INFORMATION CONTACT: Copies of the Draft GMPA/EIS are available on request by writing to: John T. Kelly, Acadia National Park, P.O. Box 177, Bar Harbor, Maine 04609; e-mailing: john_t_kelly@nps.gov, or calling: 207-288-8703. The Draft GMPA/EIS is available for pick-up in person at the Acadia National Park Headquarters on Route 233/Eagle Lake Road in Bar Harbor, Maine, during regular business hours. It is also available on the Internet at: http://www.nps.gov/acad/schoodic/home.htm.

SUPPLEMENTARY INFORMATION: Acadia National Park includes 2,366 acres on Schoodic Peninsula, most of which was acquired in 1929 as a donation from the Hancock County Trustees of Public Reservations. The Schoodic District offers exceptional views of the surf, rocky coast, and surrounding islands in an uncrowded environment, and receives approximately 250,000 visits a year.

In 1935, the U.S. Navy established a radio communications base within the park at Schoodic Point. The U.S. Navy closed the base after 67 years of service and returned 100 acres to the NPS on July 1, 2002. The former navy base contains 36 major buildings totaling approximately 206,000 square feet, including a dormitory, apartment complex, cafeteria, medical clinic, fire station, commissary, gymnasium, day care center, maintenance facility, recreational facilities, and related utility systems. The original apartment building (Rockefeller Building) and generator house are eligible for listing in the National Register of Historic Places.

The Schoodic District is zoned “Natural Area” in Acadia's 1992 General Management Plan. The National Park Service manages visitor use at Schoodic to retain current use levels and opportunities for low-density recreation. The Schoodic District contains two “Rare Natural Communities” (Jack Pine Woodland and Maritime Shrubland), several rare plant species, and significant habitat for seabirds, shorebirds, waterfowl, and bald eagles, as identified by the Maine Natural Areas Program. Most of the Schoodic District is eligible for listing in the National Register of Historic Places because of its historically significant cultural landscape.

In response to the transfer of the Navy base, the National Park Service has prepared a draft amendment to the park's General Management Plan that describes three alternatives for the management and development of the Schoodic District over the next 15 to 20 years. The Environmental Impact Statement assesses the potential environmental impacts of implementing the alternatives. To support the plan, the National Park Service has prepared a cultural landscape inventory, transportation feasibility study, collections management plan, visitor use study, and fire protection study for Schoodic, and conducted public scoping of the alternatives, including consultations with Indian tribes in Maine. The reuse of the former navy base will be consistent with the laws and management policies that govern the use of national parks.

All alternatives include establishing the Schoodic Education and Research Center (SERC), which is a National Park Service approved research learning center that began operation in 2002. The purpose of SERC is to promote and facilitate education and research that is consistent with the mission of the National Park Service. SERC would offer classrooms, laboratories, offices, and lodging to educators, researchers, and students of all ages. SERC's programs and activities would not degrade the purposes and values for which Acadia National Park was established. In addition to Alternative A, which is the “no action” alternative required by the National Environmental Policy Act, the NPS is proposing the two action alternatives described below.

Alternative B emphasizes the park's use of the former navy base for managing the Schoodic District, providing interpretive services to visitors, facilitating park research, offering resident environmental education programs, and housing staff. Under Alternative B, SERC would expand and improve the park's ongoing educational and research activities. Alternative C is the National Park Service's preferred alternative and emphasizes the use of the former navy base as an education and research center by multiple partners managed by a nonprofit organization. Under Alternative C, SERC would provide opportunities for collaboration among a variety of partners and complement the growing momentum in science and research that is underway in the region.

After public review of the Draft GMPA/EIS, the National Park Service will consider comments, and a Final GMPA/EIS, followed by a Record of Decision, will be prepared. The Final GMPA/EIS is scheduled for completion in 2004.

Dated: July 6, 2004.
Chrysandra Walter,
Deputy Regional Director, Northeast Region, National Park Service.

[FR Doc. 04-20297 Filed 9-7-04; 8:45 am]

BILLING CODE 4312-52-P